DEPARTMENT OF TRANSPORTATION

Federal Aviation Administration

14 CFR Part 97

[Docket No. 30394; Amdt. No. 3081]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective November 3, 2003. The compliance date for each SIAP is specified in the amendatory provisions.

The incorporation by reference of certain publications listed in the regulations is approved by the Director of the Federal Register as of November 3, 2003.

ADDRESSES: Availability of matters incorporated by reference in the amendment is as follows:

For Examination—

1. FAA Rules Docket, FAA Headquarters Building, 800 Independence Avenue, SW., Washington, DC 20591;

2. The FAA Regional Office of the region in which the affected airport is located;

3. The Flight Inspection Area Office which originated the SIAP; or,

4. The Office of Federal Register, 800 North Capitol Street, NW., Suite 700, Washington, DC.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK. 73169 (Mail Address: P.O. Box 25082 Oklahoma City, OK. 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on October 24, 2003.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective November 27, 2003

Hattiesburg, MS, Hattiesburg/Bobby L. Chain Muni, RNAV (GPS) RWY 13, Orig

Gallatin, TN, Sumner County Regional, RADAR-1, Amdt 4

Memphis, TN, Memphis Intl, RNAV (GPS) Z RWY 36R, Orig

Memphis, TN, Memphis Intl, RNAV (GPS) RWY 36R, Orig, CANCELLED

* * * Effective December 25, 2003

Greeley, CO, Greeley-Weld County, NDB RWY 09, Amdt 1A, CANCELLED

Pocatello, ID, Pocatello Regional, VOR/DME OR TACAN RWY 21, Amdt 10

Pocatello, ID, Pocatello Regional, VOR OR TACAN RWY 3, Amdt 16

Pocatello, ID, Pocatello Regional, NDB RWY 21, Amdt 19

Pocatello, ID, Pocatello Regional, ILS OR LOC RWY 21, Amdt 26

Pocatello, ID, Pocatello Regional, RNAV (GPS) RWY 21, Orig

Pocatello, ID, Pocatello Regional, RNAV (GPS) RWY 3, Orig

Topeka, KS, Philip Billard Muni, RNAV (GPS) RWY 18, Orig

Topeka, KS, Philip Billard Muni, RNAV (GPS) RWY 31, Orig

Topeka, KS, Philip Billard Muni, RNAV (GPS) RWY 4, Orig

Topeka, KS, Philip Billard Muni, RNAV (GPS) RWY 36, Orig

Topeka, KS, Philip Billard Muni, RNAV (GPS) RWY 13, Orig

Topeka, KS, Philip Billard Muni, RNAV (GPS) RWY 22, Orig

Topeka, KS, Philip Billard Muni, VOR RWY 22, Amdt 21

Topeka, KS, Philip Billard Muni, VOR/DME RNAV OR GPS RWY 18, Amdt 7 CANCELLED

Topeka, KS, Philip Billard Muni, GPS RWY 31, Orig, CANCELLED

Topeka, KS, Philip Billard Muni, GPS RWY 13, Orig, CANCELLED

Lexington, KY, Blue Grass, NDB RWY 22, Orig

Lexington, KY, Blue Grass, ILS RWY 22, Amdt 19

Hattiesburg, MS, Hattiesburg/Bobby L. Chain Muni, VOR RWY 13, Amdt 11

Altoona, PA, Altoona-Blair County, ILS OR LOC RWY 21, Amdt 6

Price, UT, Carbon County, VOR/DME RWY 36, Orig

Price, UT, Carbon County, VOR RWY 36, Amdt 2

Price, UT, Carbon County, RNAV (GPS) RWY 36, Orig

Price, UT, Carbon County, GPS RWY 36, Orig-A, CANCELLED

Tooele, UT, Bolinder Field-Tooele Valley, RNAV (GPS) RWY 17, Orig

Tooele, UT, Bolinder Field-Tooele Valley, GPS RWY 16, Orig, CANCELLED

Richmond, VA, Richmond Intl, VOR RWY 2, Amdt 5B

Richmond, VA, Richmond Intl,VOR RWY 16, Amdt 27

Richmond, VA, Richmond Intl, VOR RWY 20, Amdt 1

Richmond, VA, Richmond Intl, VOR RWY 25, Amdt 16

Richmond, VA, Richmond Intl, VOR RWY 34, Amdt 23

Richmond, VA, Richmond Intl, ILS RWY 2, Amdt 1

Richmond, VA, Richmond Intl, ILS RWY 16, Amdt 8

Richmond, VA, Richmond Intl, RNAV (GPS) RWY 34, Orig

Richmond, VA, Richmond Intl, RNAV (GPS) RWY 16, Orig

Richmond, VA, Richmond Intl, RNAV (GPS) RWY 20, Orig

Richmond, VA, Richmond Intl, RNAV (GPS) RWY 7, Orig

Richmond, VA, Richmond Intl, RNAV (GPS) RWY 2, Orig

Richmond, VA, Richmond Intl, GPS RWY 34, Orig, CANCELLED

Richmond, VA, Richmond Intl, VOR/DME RNAV RWY 20, Amdt 5, CANCELLED

Richmond, VA, Richmond Intl, RNAV (GPS) RWY 25, Orig

Mosinee, WI, Central Wisconsin, VOR/DME RWY 35, Amdt 8

The FAA published an Amendment in Docket No. 30392, Amdt No. 3079 to Part 97 of the Federal Aviation Regulations (Vol 68, FR No. 204, Page 60288; dated October 22, 2003) under § 97.33 effective 30 October 2003, which is hereby rescinded:

De Kalb, IL, De Kalb Taylor Muni, VOR/DME RWY 27, Orig

De Kalb, IL, De Kalb Taylor Muni, VOR/DME OR GPS RWY 27, Amdt 5, CANCELLED

The FAA published an Amendment in Docket No. 30392, Amdt No. 3079 to Part 97 of the Federal Aviation Regulations (Vol 68, FR No. 204, Page 60288; dated October 22, 2003) under § 97.33 effective 30 October 2003, which is hereby rescinded:

Greencastle, IN, Putnam County, NDB RWY 18, Amdt 1

[FR Doc. 03-27507 Filed 10-31-03; 8:45 am]

BILLING CODE 4910-13-P